Title 3—

The President

Executive Order 14089 of December 13, 2022

Establishing the President's Advisory Council on African Diaspora Engagement in the United States

By the authority vested in me as President by the Constitution and the laws of the United States of America, and in order to strengthen the dialogue between United States officials and the African Diaspora by elevating engagement through collaboration, partnership, and community-building among the United States, Africa, and other nations globally, it is hereby ordered as follows:

Section 1. Policy. The United States has a longstanding commitment to engagement with the African Diaspora—people of native African origin living outside the African continent, and who have been collectively described as constituting the sixth region of the African Union. The African Diaspora in the United States is a source of strength, and encompasses African Americans—including descendants of enslaved Africans—and nearly two million African immigrants who have close familial, social, and economic connections to the African continent. African Americans have been foundational to strengthening United States-Africa relations and in shaping United States foreign policy toward Africa—including by actively advocating on the African continent's behalf, even as they struggled for civil rights in the United States. The African immigrant community continues to make significant contributions to America's growth and prosperity. The United States Government encourages efforts to advance equity and opportunity for the African Diaspora in the United States, and will continue to encourage efforts to strengthen cultural, social, political, and economic ties between African communities, the global African Diaspora, and the United States.

In August 2022, my Administration released the U.S. Strategy Toward Sub-Saharan Africa, which outlines our foreign policy objectives to bolster relations with African nations, listen to diverse local voices, and widen the circle of engagement to advance our strategic objectives for the benefit of both Africans and Americans.

Sec. 2. Establishment of the President's Advisory Council on African Diaspora Engagement in the United States. Within 180 days of the date of this order, the Secretary of State shall establish the President's Advisory Council on African Diaspora Engagement in the United States (Advisory Council) within the Department of State.

Sec. 3. Membership. (a) The Advisory Council shall consist of not more than 12 members, appointed by the Secretary of State, who are representatives of and reflect the diversity of the African Diaspora from African American and African immigrant communities, including individuals who have distinguished themselves in government, sports, creative industries, business, academia, social work, and faith-based activities. Appointments to the Advisory Council shall be made without regard to political affiliation.

(b) Members of the Advisory Council shall serve for 2-year terms without compensation or reimbursement.

(c) The Secretary of State shall designate one of the members of the Advisory Council to serve as Chair.

(d) The Secretary of State shall designate a senior officer or employee of the Department of State to serve as Executive Director of the Advisory Council.

Sec. 4. Functions. (a) The Advisory Council shall advise the President, through the Secretary of State, and then through the Assistant to the President for National Security Affairs (APNSA) and the Assistant to the President for Domestic Policy (APDP), on strengthening connections between the United States Government and the African Diaspora in the United States, as described in the U.S. Strategy Toward Sub-Saharan Africa.

(b) In providing the advice described in subsection (a) of this section, the Advisory Council shall provide information, analysis, and recommendations that address the following, in addition to other topics deemed relevant by the Secretary of State, in coordination with the APNSA and the APDP:

(i) strategies to advance equity and opportunity for African Diaspora communities, including through efforts coordinated by the Domestic Policy Council under Executive Order 13985 of January 20, 2021 (Advancing Racial Equity and Support for Underserved Communities Through the Federal Government);

(ii) ways to support the United Nations' Permanent Forum on People of African Descent;

(iii) programs and initiatives to strengthen cultural, social, political, and economic ties between African communities, the global African Diaspora, and the United States, such as the Young African Leaders Initiative, and address challenges and opportunities to advance inclusion, belonging, and public awareness of the diversity, accomplishments, culture, and history of the African Diaspora;

(iv) programs and initiatives, such as the International Visitor Leadership Program, to expand educational exchange programs between Africa and the United States;

(v) programs and initiatives to increase public- and private-sector collaboration and community involvement in improving the socioeconomic well-being of African Diaspora communities; and

(vi) programs and initiatives, such as Prosper Africa, to increase participation of members of the African Diaspora in the United States with regard to trade, investment, economic growth, and development programs relating to Africa.

Sec. 5. Administration. (a) The Department of State shall provide funding and administrative support for the Advisory Council, to the extent permitted by law and within existing appropriations.

(b) The Advisory Council shall meet in plenary session on a quarterly basis, at a minimum, or more frequently as necessary.

Sec. 6. General Provisions. (a) Insofar as the Federal Advisory Committee Act, as amended (5 U.S.C. App.) (the “Act”), may apply to the Advisory Council, any functions of the President under the Act, except for those in section 6 of the Act, shall be performed by the Secretary of State in accordance with the guidelines issued by the Administrator of General Services.

(b) Nothing in this order shall be construed to impair or otherwise affect:

(i) the authority granted by law to an executive department or agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

December 13, 2022.

[FR Doc. 2022-27585

Filed 12-16-22; 8:45 am]

Billing code 3395-F3-P